DEPARTMENT OF ENERGY

Federal Energy Regulatory Commission

[Docket No. IC09-725-001]

Commission Information Collection Activities (FERC-725); Comment Request; Submitted for OMB Review

April 30, 2009.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review of the information collection requirements. Any interested person may file comments directly with OMB and should address a copy of those comments to the Commission as explained below. The Commission received no comments in response to the Federal Register notice (74FR 6861, 2/11/2009) and has made this notation in its submission to OMB.

DATES: Comments on the collection of information are due by June 5, 2009.

ADDRESSES: Address comments on the collection of information to the Office of Management and Budget, Office of Information and Regulatory Affairs, Attention: Federal Energy Regulatory Commission Desk Officer. Comments to OMB should be filed electronically, c/o oira__submission@omb.eop.gov and include OMB Control Number 1902-0225 as a point of reference. The Desk Officer may be reached by telephone at 202-395-4638.

A copy of the comments should also be sent to the Federal Energy Regulatory Commission and should refer to Docket No. IC09-725-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-725-001.

All comments may be viewed, printed or downloaded remotely via the Internet through FERC's homepage using the “eLibrary” link. For user assistance, contact fercolinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: The information collected under the requirements of FERC-725 (“Certification of Electric Reliability Organization; Procedures for Electric Reliability Standards” (OMB Control No. 1902-0225)) is used by the Commission to implement the statutory provisions of Title XII, subtitle A of the Energy Policy Act of 2005 (EPAct 2005).¹

¹ Energy Policy Act of 2005, Public Law 109-58, 119 Stat. 594 (2005) (codified at 42 U.S.C. 16451, et seq.)

The Electricity Modernization Act of 2005 was enacted into law as part of the Energy Policy Act of 2005 on August 8, 2005. Subtitle A of the Electricity Modernization Act amended the Federal Power Act (FPA) by adding a new section 215, titled “Electric Reliability.” Section 215 of the FPA buttresses the Commission's efforts to strengthen the reliability of the interstate grid through the granting of new authority to provide for a system of mandatory Reliability Standards developed by the Electric Reliability Organization (ERO) ² and reviewed and approved by FERC.

² “Electric Reliability Organization” or “ERO” means the organization (certified by the Commission) established for the purpose of developing and enforcing Reliability Standards for the Bulk-Power System, subject to Commission review.

On February 3, 2006, the Commission issued Order No. 672 ³ certifying a single Electric Reliability Organization (ERO) to oversee the reliability of the United States' portion of the interconnected North American Bulk-Power System, subject to Commission oversight. The Reliability Standards apply to all users, owners and operators of the Bulk-Power System. The Commission has the authority to: (1) Approve all ERO actions, (2) order the ERO to carry out its responsibilities under these statutory provisions, and (3), as appropriate, independently enforce Reliability Standards.

³ Rules Concerning Certification of the Electric Reliability Organization; and Procedures for the Establishment, Approval, and Enforcement of Electric Reliability Standards ¶ 31,204 71 FR 8662 (2006) Order on reh'g, 71 FR 19,814 (2006), FERC Statutes and Regulations ¶ 31,212 (2006).

Once certified, the ERO must submit each proposed Reliability Standard to the Commission for approval. Only a Reliability Standard approved by the Commission is enforceable under section 215 of the FPA.

The ERO may delegate its enforcement responsibilities to a Regional Entity (RE). Delegation is effective only after the Commission approves the delegation agreement. A Regional Entity may also propose a Reliability Standard to the ERO for submission to the Commission for approval. This Reliability Standard may be either for application to the entire interconnected Bulk-Power System or for application only within its own region.

The ERO or a Regional Entity must monitor compliance with the Reliability Standards. It will direct a user, owner or operator of the Bulk-Power System that violates a Reliability Standard to comply with the Reliability Standard. The ERO or Regional Entity may impose a penalty on a user, owner or operator for violating a Reliability Standard, subject to review by, and appeal to, the Commission.

Subtitle A of the Electricity Modernization Act of 2005 also includes two reliability-related provisions that are not part of section 215 of the FPA. Section 1211(b) of the Act provides that the ERO certified by the Commission, as well as Regional Entities, are not departments, agencies or instrumentalities of the United States Government. Section 1211(c) provides that federal agencies responsible for approving access to electric transmission or distribution facilities located on lands within the United States will, in accordance with applicable law, expedite any federal agency approvals that are necessary to allow the owners or operators of these facilities to comply with a FERC-approved Reliability Standard that pertains to vegetation management, electric service restoration, or resolution of situations that imminently endanger the reliability or safety of the facilities.

Order No. 672 set forth the criteria that an ERO applicant must satisfy to qualify as the ERO, including the ability to develop and enforce Reliability Standards.⁴ The ERO submission must include an evaluation of the effectiveness of each Regional Entity. The Commission will, as part of its assessment of the ERO's performance, assess the performance of each Regional Entity and issue an order addressing Regional Entity compliance. If a Regional Entity fails to comply adequately with the Commission order, the Commission may institute a proceeding to enforce its order, including, if necessary and appropriate, a proceeding to consider rescission of the Commission's approval of the Regional Entity's delegation agreement.

⁴ The criteria stated in the Final Rule track the statutory criteria for ERO certification provided in section 215(c) of the FPA.

The Electricity Modernization Act of 2005 buttresses the Commission's efforts to strengthen the interstate transmission grid through the granting of authority pursuant to section 215 of the FPA which provides for a system of mandatory reliability rules developed by the ERO, established by the Commission, and enforced by the Commission, subject to Commission review.

A submission of the information is necessary for the Commission to carry out its responsibilities under EPAct 2005.⁵ The Commission implements its responsibilities through the Code of Federal Regulations, 18 CFR Part 39. These filing requirements are mandatory.

⁵ 42 U.S.C. 16451 et seq.

⁶ The burden and cost estimates do not include the cost of applying to become the ERO because that application process and the resulting FERC selection have been completed.

The burden and cost estimates for FERC-725 do not include compliance with the Reliability Standards. The reporting requirements (and the associated burden and cost) related to the Reliability Standards are cleared separately in other collections, including: FERC-725A (Mandatory Reliability Standards for the Bulk-Power System; OMB No. 1902-0244), FERC-725B (Mandatory Reliability Standards for Critical Infrastructure Protection; OMB No. 1902-0248), FERC-725D (Facilities Design, Connections and Maintenance Reliability Standards; OMB No. 1902-0247), FERC-725E (Mandatory Reliability Standards for the Western Electric Coordinating Council; OMB No. 1902-0246), and FERC-725F (Mandatory Reliability Standard for Nuclear Plant Interface Coordination; OMB No. 1902-0249). This Notice requests comments on only the FERC-725.

Action: The Commission is requesting a three-year extension of the current expiration date, with no change to the existing reporting requirements in 18 CFR Part 39.

Burden Statement: Based on additional information from the ERO and staff, the burden and cost estimates provided in the 60-day Notice have been revised. The estimated annual public reporting burden and cost for FERC-725 follow.

FERC-725 ⁶ |  |  | FTE | Est. annual burden (hrs.) | Est. annual cost ($)
Annual Costs for NERC (ERO) | 3 Year Self Assessment (Due 7/09) ⁷ | Contractor | ⁷ 3.33 | ⁷ 3,266.67 | ⁷ $350,000
| Reliability Reporting Estimate ⁸ | Internal | 1.5 | 2,940 | 210,663
| Estimate | Software | 0 | 0 | 75,000
| Audits, spot checks, self certifications, periodic data submittals, investigations, & mitigation plan confirmation (under 18 CFR 39.11) ⁸ |  |  | 41,437 | 2,797,821
Total Est. Annual Costs for NERC (ERO) | 4.83 | 47,643.67 | 3,433,484
Annual Costs ⁹ for Regional Entities (RE) | Reliability Reporting Estimate | Internal | 4.5 | 8,820 | 519,840
| Estimate | Software | 0 | 0 | 225,000
| Audits, spot checks, self certifications, periodic data submittals, investigations, & mitigation plan confirmation (under 18 CFR 39.11) ⁹ |  |  | 208,060 | 11,555,332
Total Est. Annual Costs for Regional Entities | 4.5 | 216,880 | 12,300,172
Annual Costs for Registered Entities ¹⁰ | Audits, spot checks, self certifications, periodic data submittals, investigations, & mitigation plan confirmation (under 18 CFR 39.11) |  |  | 707,781 | 43,656,818
Total Est. Annual Costs for Registered Entities | 9.33 | 707,781 | 43,656,818
Total Estimated Annual Burden & Cost |  | 972,304.67 | 59,390,474

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

⁷ Per Order 672, the ERO will undergo a performance assessment three years after certification (July 2009) and every five years thereafter. Therefore, the total figures for FTE (10), burden hrs. (9,800), and cost ($1,050,000) associated with doing the self-assessment have been divided by 3 to provide average annual figures for this notice.

The methodology for estimating the totals for the 3-year self assessment follows. Staff estimates that the self assessment will take 6 months to complete. In order for NERC to complete the work in half the time, we assume that NERC must hire double the workforce, so 10 contractors are used in the present calculation. The $1,050,000 was taken directly from NERC's 2009 Business Plan and Budget.

⁸ NERC Employee Cost Estimate: NERC Employee Compensation Average is $140,442 (from 2009 Budget salary average). For 1.5 Employees, the Annualized Salary Expense is $210,663.

⁹ Regional Entity (RE) Employee Cost Estimate: RE Employee Compensation Average of $115,520 (from 2009 Budget salary average). For 4.5 Employees, the Annualized Salary Expense is $519,840.

¹⁰ The average employee works 2,080 hours per year. The estimated average annual cost per employee is $128,297.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimates of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-10518 Filed 5-6-09; 8:45 am]

BILLING CODE 6717-01-P